Title 3—

The President

Proclamation 7362 of October 12, 2000

Death of American Servicemembers Aboard the United States Ship Cole

By the President of the United States of America

A Proclamation

As a mark of respect for those who died on the United States Ship COLE, I hereby order, by the authority vested in me as President of the United States by the Constitution and the laws of the United States of America, that the flag of the United States shall be flown at half-staff upon all public buildings and grounds, at all military posts and naval stations, and on all naval vessels of the Federal Government in the District of Columbia and throughout the United States and its Territories and possessions until sunset, Monday, October 16, 2000. I also direct that the flag shall be flown at half-staff for the same length of time at all United States embassies, legations, consular offices, and other facilities abroad, including all military facilities and naval vessels and stations.

IN WITNESS WHEREOF, I have hereunto set my hand this twelfth day of October, in the year of our Lord two thousand, and of the Independence of the United States of America the two hundred and twenty-fifth.

wj

[FR Doc. 00-26770

Filed 10-16-00; 8:45 am]

Billing code 3195-01-P